DEPARTMENT OF COMMERCE

Foreign-Trade Zones Board

[Order No. 1235]

Expansion of Foreign-Trade Zone 143, Sacramento, California Area

Pursuant to its authority under the Foreign-Trade Zones Act of June 18, 1934, as amended (19 U.S.C. 81a-81u), the Foreign-Trade Zones Board (the Board) adopts the following Order:

Whereas, the Sacramento-Yolo Port District, grantee of Foreign-Trade Zone 143, submitted an application to the Board for authority to expand FTZ 143 to include a new site (Site 4) at the McClellan Park (the former McClellan Air Force Base) in the San Francisco Customs port of entry area (FTZ Docket 2-2002; filed 1/7/02);

Whereas, notice inviting public comment was given in the Federal Register (67 FR 1959, 1/15/02) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 143 is approved, subject to the Act and the Board's regulations, including Section 400.28, and further subject to the Board's standard 2,000-acre activation limit.

Signed at Washington, DC, this 27th day of June 2002.
Joseph A. Spetrini,
Acting Assistant Secretary of Commerce for Import Administration, Alternate Chairman, Foreign-Trade Zones Board.

[FR Doc. 02-17031 Filed 7-8-02; 8:45 am]

BILLING CODE 3510-DS-P